DEPARTMENT OF LABOR

Employment and Training Administration

[NAFTA-5163]

Tyco Electronics, Fiber Optics Division, Glen Rock, PA; Notice of Revised Determination on Remand

The United States Court of International Trade (USCIT) remanded to the Department of Labor for further consideration and investigation of the negative determination on reconsideration on remand in Former Employees of Tyco Electronics, Fiber Optics Division v. U.S. Secretary of Labor (Court No. 02-00152).

The Department's initial denial of NAFTA-Transitional Adjustment Assistance (NAFTA-5163) for the workers of Tyco Electronics, Fiber Optics Division, Glen Rock, Pennsylvania, issued on September 28, 2001 and published in the Federal Register on October 19, 2001 (66 FR 53252), was based on the finding that criteria (3) and (4) were not met. The investigation concluded that imports from Canada or Mexico did not contribute importantly to workers' separations, and that the predominant cause of the worker separations was a domestic transfer of production to an affiliated facility in Harrisburg, Pennsylvania.

On January 22, 2002, the Department issued a Notice of Negative Determination Regarding Application for Reconsideration for NAFTA-5163 and published the determination in the Federal Register on February 5, 2002 (67 FR 5299).

The petitioners alleged in the request for reconsideration that plant production was shifted to an affiliated plant located in Mexico. Information provided by the company at that time showed that any production shifted from the subject plant to Mexico during the relevant period was negligible. That information suggested that an overwhelming (over 98%) portion of plant production was transferred to Harrisburg, Pennsylvania during the relevant period.

The petitioners appealed to the U.S. Court of International Trade, and on voluntary remand, the Department requested company-wide sales figures of the article(s) produced at the subject plant and a list of the major declining customers of the subject plant. The figures for the Fiber Optics Division showed increases in sales from 1999 to 2000 and decreases in sales from the January through September 2001 period from the corresponding 2000 period.

Because the company reported declining sales at the Fiber Optics Division during the relevant period, the Department conducted a survey of the subject firm's major declining customers regarding their purchases of fiber optic cable assemblies, components, and value-added enclosures during 1999, 2000, January through September 2001, and January through September 2000.

The surveys revealed that none of the major declining customers increased imports of the relevant articles from Canada or Mexico during the relevant period.

On the current, court-ordered remand, the Department requested and obtained new and additional information and clarification from the company regarding plant production shifts to Mexico. Upon careful review of the new data, it has been determined more than a negligible portion of production was shifted to Mexico during the relevant period.

Conclusion

After careful review of the additional facts obtained on the current remand, I conclude that there was a shift of production to Mexico that contributed importantly to the worker separations and sales or production declines at the subject facility. In accordance with the provisions of the Trade Act, I make the following certification:

All workers of Tyco Electronics, Fiber Optics Division, Glen Rock, Pennsylvania who became totally or partially separated from employment on or after July 27, 2000, through two years from the issuance of this revised determination, are eligible to apply for NAFTA-TAA under Section 250 of the Trade Act of 1974.

Signed at Washington, DC this 25th day of June, 2003.
Elliott S. Kushner,
Director, Division of Trade Adjustment Assistance.

[FR Doc. 03-17442 Filed 7-9-03; 8:45 am]

BILLING CODE 4510-30-P